DEPARTMENT OF ENERGY

Federal Energy Regulatory Commission

[Docket No. CP01-70-004]

Columbia Gas Transmission Corporation; Notice of Filing

January 7, 2002.

Take notice that on December 21, 2001, Columbia Gas Transmission Corporation (Columbia) tendered its filing in compliance with the Commission's November 21, 2001 Order (November 21 Order) in the above referenced docket. In the November 21 Order, the Commission accepted for filing 159 service agreements filed pursuant to section 154.1(d) of the Commission's regulations. The Commission also approved the FirstEnergy contracts subject to certain conditions. In particular, the November 21 Order directed Columbia to make a compliance filing consistent with the terms of the November 21 Order within 30 days of the date of issuance of the order.

Columbia states that copies of its filing are available for inspection at its offices at 12801 Fair Lakes Parkway, Fairfax, Virginia; and 10 G Street NE., Suite 580, Washington, DC; and has been sent by first-class mail, postage prepaid, by Columbia to Columbia's firm customers, interruptible customers, affected state commissions, and to each of the parties on the official service list in Docket No. CP01-70-001 and 002.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-834 Filed 1-11-02; 8:45 am]

BILLING CODE 6717-01-P